DEPARTMENT OF TRANSPORTATION

Federal Aviation Administration

Notice of Industry Meeting

AGENCY: Federal Aviation Administration (FAA), DOT.

ACTION: Notice of public meeting.

SUMMARY: The Federal Aviation Administration (FAA) is hosting a public meeting for the Aircraft Access to System Wide Information Management (AAtS) Phase 2 Working Group. The Working Group Meeting will be a forum for discussions regarding the operational needs for a capability such as AAtS. This meeting is not a precursor to a request for proposal (RFP) or request for offer (RFO). The FAA is not seeking or accepting unsolicited proposals.

DATES: The public meeting will be held on November 17, 2014, from 1:00 p.m. to 4:00 p.m.

ADDRESSES: The public meeting will be held at The MITRE Corporation, MITRE-1 Building (H), 7525 Colshire Drive, McLean, VA 22102.

FOR FURTHER INFORMATION CONTACT: Biruk Abraham, ANG-C53, Operational Improvements Portfolio Branch, Federal Aviation Administration, 800 Independence Ave., SW., Washington, DC 20591; telephone (202) 267-8816; email: Biruk.Abraham@faa.gov.

SUPPLEMENTARY INFORMATION:

Background

The FAA's System Wide Information Management (SWIM) program is one of seven transformational programs of the NextGen portfolio. SWIM utilizes a Service Oriented Architecture (SOA) to exchange aviation data and services without the restrictive, time consuming and expensive process of developing unique interfaces for the multitude of systems and equipment used by the National Airspace System (NAS).

The Aircraft Access to SWIM (AAtS) initiative provides a global extension of the NAS SOA to aircraft using air to ground network services, selected and funded by aircraft operators, exchanging data between aircraft and the NAS. The AAtS capabilities established in Phase 1 are significant in that near real-time NAS data is now available to support strategic and tactical traffic management and flight operations up to, but not including, those uses directly affecting aircraft trajectories. Through AAtS, aircraft are provided a means to connect to a collection of common aeronautical, meteorological, and traffic management information sources from multiple services including the FAA, National Weather Service (NWS), Department of Homeland Security (DHS), and airports, creating a shared and globally interoperable aviation information environment.

Phase 2 of the AAtS initiative facilitates a common information environment supporting flight crew involvement in the collaborative decision making process even further. AAtS will not implement a specific infrastructure for the creation of the service link to the aircraft. The AAtS Demonstrations and Concept development teams will define a set of operational and technical recommendations to be used as guidance to drive infrastructure development. Furthermore, AAtS provides information which is non-critical only.

The AAtS Phase 2 Working Group Meeting will be a forum for discussions regarding the operational needs for a capability such as AAtS. Questions to be answered in the next phase of AAtS activities include: What information is needed for a more successful operation, how the information is used, and what information could the operator provide back to the FAA for other operators to base decisions upon. Individuals attending the meeting will have an opportunity to participate in AAtS Working Group discussions involving Title 14 Code of Federal Regulation parts 121, 135 and 91 Operational demonstrations with an Electronic Flight Bag application as well as developmental discussions regarding AAtS utility in defining, updating, and manipulating trajectories. Participant insight is valuable in progressing AAtS IP Data Link capabilities into a bi-directional exchange of data between ground to ground and air to ground operational functionality.

Registration

To attend the meeting, participants must register via email by close of business day Wednesday, November 12, 2014. In accordance with security procedures, participants must provide the following information to Katelyn@jma-solutions.com: Full Name, Company, Phone Number, and U. S. Citizen (Y/N).

Issued in Washington, DC, on October 27, 2014.
Paul Fontaine,
Director, NextGen Advanced Concepts & Technology Development.

[FR Doc. 2014-25827 Filed 10-29-14; 8:45 am]

BILLING CODE 4910-13-P